DEPARTMENT OF ENERGY

Federal Energy Regulatory Commission

Combined Notice of Filings #1

Take notice that the Commission received the following electric corporate filings:

Docket Numbers: EC12-139-000.

Applicants: Dogwood Energy LLC.

Description: Application for Authorization Under Section 203 of the Federal Power Act and Request for Waivers, Expedited Action and Shortened Comment Period of Dogwood Energy LLC.

Filed Date: 9/7/12.

Accession Number: 20120907-5152.

Comments Due: 5 p.m. ET 9/28/12.

Take notice that the Commission received the following electric rate filings:

Docket Numbers: ER12-1355-002.

Applicants: Iron Energy LLC.

Description: Notice of Non-Material Change in Status and Tariff Revisions to be effective 9/7/2012.

Filed Date: 9/6/12.

Accession Number: 20120906-5107.

Comments Due: 5 p.m. ET 9/27/12.

Docket Numbers: ER12-2206-000.

Applicants: Southern California Edison Company.

Description: Southern California Edison Company's Response to August 10, 2012 letter requesting additional information.

Filed Date: 9/7/12.

Accession Number: 20120907-5121.

Comments Due: 5 p.m. ET 9/28/12.

Docket Numbers: ER12-2208-000.

Applicants: Southern California Edison Company.

Description: Southern California Edison Company's Response to August 10, 2012 letter requesting additional information.

Filed Date: 9/7/12.

Accession Number: 20120907-5121.

Comments Due: 5 p.m. ET 9/28/12.

Docket Numbers: ER12-2398-000.

Applicants: NRG Solar Borrego I LLC.

Description: NRG Solar Borrego I LLC's Amendment to Application for Market-Based Rate Authority and Associated Waivers and Blanket Approvals.

Filed Date: 8/15/12.

Accession Number: 20120815-5132.

Comments Due: 5 p.m. ET 9/28/12.

Docket Numbers: ER12-2590-000.

Applicants: DR Power, LLC.

Description: DR Power, LLC MBR Application Filing to be effective 11/1/2012.

Filed Date: 9/6/12.

Accession Number: 20120906-5102.

Comments Due: 5 p.m. ET 9/27/12.

Docket Numbers: ER12-2591-000.

Applicants: Monongahela Power Company.

Description: Facilities Lease and Assignment Agreement including Revised Exhibit A to be effective 9/1/2012.

Filed Date: 9/6/12.

Accession Number: 20120906-5103.

Comments Due: 5 p.m. ET 9/21/12.

Docket Numbers: ER12-2592-000.

Applicants: Southern California Edison Company.

Description: SGIA SCE-SCE, Tehachapi Wind Energy Storage Project to be effective 9/8/2012 under.

Filed Date: 9/7/12.

Accession Number: 20120907-5000.

Comments Due: 5 p.m. ET 9/28/12.

Docket Numbers: ER12-2593-000.

Applicants: PPL EnergyPlus, LLC.

Description: Hourly Coordination Agreement—Addendum to be effective 9/7/2012.

Filed Date: 9/7/12.

Accession Number: 20120907-5004.

Comments Due: 5 p.m. ET 9/28/12.

Docket Numbers: ER12-2594-000.

Applicants: PJM Interconnection, L.L.C.

Description: Original Service Agreement No. 3392; Queue No. Y1-045 to be effective 8/10/2012.

Filed Date: 9/7/12.

Accession Number: 20120907-5083.

Comments Due: 5 p.m. ET 9/28/12.

Docket Numbers: ER12-2595-000.

Applicants: Southern California Edison Company.

Description: Notice of Cancellation to SGIA and DSA 13048 Valley Blvd., Fontana Roof Top Solar to be effective 7/27/2011.

Filed Date: 9/7/12.

Accession Number: 20120907-5084.

Comments Due: 5 p.m. ET 9/28/12.

Docket Numbers: ER12-2596-000.

Applicants: MidAmerican Energy Company.

Description: MEAN-MidAmerican Transmission Revenue Credits to be effective 9/1/2012.

Filed Date: 9/7/12.

Accession Number: 20120907-5110.

Comments Due: 5 p.m. ET 9/28/12.

Docket Numbers: ER12-2597-000.

Applicants: PPL Montana, LLC, PPL Colstrip II, LLC.

Description: Notice of Cancellation of PPL Montana, LLC and PPL Colstrip, II, LLC.

Filed Date: 9/7/12.

Accession Number: 20120907-5137.

Comments Due: 5 p.m. ET 9/28/12.

Docket Numbers: ER12-2598-000.

Applicants: New York Independent System Operator, In NYISO Tariff Revisions: OATT RS1—Operating Cost Funding Shortfall Resolution to be effective 1/1/2013.

Filed Date: 9/7/12.

Accession Number: 20120907-5153.

Comments Due: 5 p.m. ET 9/28/12.

Docket Numbers: ER12-2599-000.

Applicants: PJM Interconnection, L.L.C.

Description: Reqeust for Waiver of PJM. Interconnection, L.L.C.

Filed Date: 9/7/12.

Accession Number: 20120907-5154.

Comments Due: 5 p.m. ET 9/28/12.

Take notice that the Commission received the following electric securities filings:

Docket Numbers: ES12-54-000.

Applicants: Brookfield Smoky Mountain Hydropower LLC, Smoky Mountain Transmission LLC.

Description: Application for Authorization of the Assumption of Liabilities and the Issuance of Securities under FPA Sec. 204 of Smoky Mountain Transmission LLC and Brookfield Smoky Mountain Hydropower LLC.

Filed Date: 9/6/12.

Accession Number: 20120906-5114.

Comments Due: 5 p.m. ET 9/27/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 7, 2012.
Nathaniel J. Davis, Sr.,
Deputy Secretary.

[FR Doc. 2012-22648 Filed 9-13-12; 8:45 am]

BILLING CODE 6717-01-P